DEPARTMENT OF TRANSPORTATION

Federal Motor Carrier Safety Administration

[Docket No. FMCSA-2007-0054]

Agency Information Collection Activities; Revision of an Approved Information Collection: Motor Carrier Safety Assistance Program

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This information collection consists of grant application preparation, quarterly reports and electronic data documenting the results of driver/vehicle inspections performed by the States. On September 21, 2007, FMCSA published a Federal Register notice allowing for a 60-day comment period on the ICR. One comment was received.

DATES: Please send your comments by December 28, 2007. OMB must receive your comments by this date in order to act quickly on the ICR.

ADDRESSES: All comments should reference DOT Docket No. FMCSA-2007-0054. You may submit comments to the Office of Information and Regulatory Affairs, Office of Management and Budget, 725 Seventeenth Street, NW., Washington, DC 20503, Attention: DOT/FMCSA Desk Officer.

FOR FURTHER INFORMATION CONTACT: John E. Kostelnik, Office of Safety Programs, State Programs Division, Department of Transportation, Federal Motor Carrier Safety Administration, West Building 6th Floor, 1200 New Jersey Avenue, SE., Washington, DC 20590. Telephone: 202-366-5721; e-mail: Jack.kostelnik@dot.gov.

SUPPLEMENTARY INFORMATION: Title: Motor Carrier Safety Assistance Program.

OMB Control Number: 2126-0010.

Type of Request: Revision of a currently approved collection.

Respondents: State MCSAP lead agencies and local agencies.

Estimated Number of Respondents: 52 [50 States + Puerto Rico + District of Columbia = 52].

Estimated Time per Response: 80 hours per grant application preparation; 8 hours per quarterly report preparation; and 1 minute per inspection and data upload.

Expiration Date: November 30, 2007.

Frequency of Response: 1 grant application annually; 4 quarterly reports annually; and approximately 3 million total inspection and data uploads annually.

Estimated Total Annual Burden: 12,280 hours.

The methods used to calculate the hours necessary to prepare grant applications, upload data, and prepare quarterly reports are based on interviews with the State and Federal personnel charged with those responsibilities. The information required to prepare the applications for grants and the subsequent reports is based on general information ordinarily maintained by the States in the general course of business, and only simple computations are required to determine burden hours. The grant applications and reports are submitted by the 50 States, four Territories, Puerto Rico, and the District of Columbia. The four territories of American Samoa, Guam, U.S. Virgin Islands and the Commonwealth of the Northern Mariana Islands are funded at 100 percent; therefore they are not included in the computation of the annual burden. Each entity submits one grant request and four quarterly reports per year. In addition, about three million total inspection reports are uploaded each year.

This figure reflects only 20 percent of the total estimated annual hours to perform the activities because MCSAP reimburses 80 percent of the eligible costs incurred in the administration of an approved plan as set forth in 49 CFR 350.303, 350.309 and 350.311. Labor hours are estimated and an average hourly rate for professional personnel is applied.

Background: Sections 401 through 404 of the Surface Transportation Assistance Act of 1982 (STAA) (Pub. L. 97-424) established a program of financial assistance to the States to implement programs to enforce: (a) Federal rules, regulations, standards, and orders applicable to commercial motor vehicle safety; and (b) compatible State rules, regulations, standards and orders. This grant-in-aid program is known as the Motor Carrier Safety Assistance Program (MCSAP). Section 402(c) of the STAA requires that the Secretary of Transportation (Secretary), on the basis of reports submitted by the States and the Secretary's own inspections, make a continuing evaluation of the manner in which each State is carrying out its approved safety enforcement plan.

The Transportation Equity Act for the 21st Century (TEA-21) further revised the MCSAP to broaden its purpose beyond enforcement activities and programs by requiring participating States to assume greater responsibility for improving motor carrier safety. TEA-21 required States to develop performance-based plans reflecting national priorities and performance goals, revised the MCSAP funding distribution formula, and created a new incentive funding program. As a result, States are given greater flexibility in designing programs to address national and State goals of reducing the number and severity of commercial motor vehicle (CMV) accidents.

The Safe, Accountable, Flexible, and Efficient Transportation Equity Act: A Legacy for Users (SAFETEA-LU) amended 49 U.S.C. 31102(b)(1) to modify and augment the conditions a State must meet to qualify for basic program funds under the MCSAP. The statute requires a State to document in the State Commercial Vehicle Safety Plan (CVSP) its commitment to meet the following additional conditions:

• Deploy technology to enhance the efficiency and effectiveness of CMV safety programs;

• Include, in both the training manual for the licensing examination to drive a non-CMV and the training manual for the licensing examination to drive a CMV, information on best practices for driving safely in the vicinity of noncommercial and commercial motor vehicles;

• Conduct comprehensive and highly visible traffic enforcement and CMV safety inspection programs in high-risk locations and corridors; and

• Except in the case of an imminent or obvious safety hazard, ensure that an inspection of a vehicle transporting passengers for a motor carrier of passengers is conducted at a station, terminal, border crossing, maintenance facility, destination, or other location where a motor carrier may make a planned stop.

Additionally, SAFETEA-LU provided that States may use a portion of MCSAP basic grant funds to conduct documented enforcement of State traffic laws—both laws and regulations designed to promote the safe operation of CMVs and laws and regulations relating to non-CMVs, when necessary to promote the safe operation of CMVs. Section 4106 amended 49 U.S.C. 31102(c) to provide that a State may use a portion of MCSAP grant funds to conduct documented enforcement of State traffic laws.

In order for the Federal Motor Carrier Safety Administration (FMCSA) to evaluate program effectiveness, it is necessary for the State to provide and maintain information concerning past, present and future program activity. The Final Rule that revised Part 350 (MCSAP) to comply with the congressionally-mandated provisions of TEA-21 was published in the Federal Register (65 FR 15092) on March 21, 2000. Part 350 is currently being revised to implement the changes to the MCSAP made by SAFETEA-LU. The State's grant application, known as the Commercial Vehicle Safety Plan (CVSP), must contain the information required by 49 CFR 350.201, 350.211 and 350.213. This information is necessary to enable the FMCSA to determine whether a State meets the statutory and administrative criteria to be eligible for a grant. It is necessary that a State's work activities and accomplishments be reported so that the FMCSA can monitor and evaluate a State's progress under its approved plan and make the determinations and decisions required of 49 CFR 350.205 and 350.207. The FMCSA is required to determine whether each State's efforts meet the intended objectives of its plan. In the event of nonconformity with any approved plan and failure on the part of a State to remedy deficiencies, the FMCSA is required to take action to cease Federal participation in that State's plan.

This information collection supports the DOT Strategic Goal of Safety (i.e., reducing commercial truck-related fatalities by providing financial and technical support to State CMV enforcement efforts).

The FMCSA uses the information in the CVSP to determine whether a State has the necessary resources and authority to undertake the program intended by Congress. After a grant has been awarded to a State, a continuing and final evaluation of the State's activities is performed to determine whether continued funding is appropriate and if revisions in the State's CVSP should be made. A quarterly report in narrative form is submitted by the States to provide the minimum necessary information to assist in appropriate monitoring of a State's performance, compared to its CVSP, and to permit the FMCSA to determine whether the effort of a State is cost efficient and whether Federal assistance should be continued. In addition, inspection data and reports are submitted electronically by the inspecting officer from the field to the FMCSA at the time of completion of the inspection.

SAFETEA-LU provides that States may now conduct traffic enforcement activities against non-CMVs to promote the safe operation of CMVs. The States have been routinely conducting traffic enforcement activities on CMVs and have been reimbursed, provided an appropriate inspection was conducted at the time. Previously, non-CMV traffic enforcement was not an eligible MCSAP activity for reimbursement so the States have not captured activity levels for this type of enforcement. It is anticipated that the number of non-CMV enforcement activities conducted by the States will be minimal since SAFETEA-LU limits the amount of MCSAP grant funding that can be used for non-CMV traffic enforcement activities to no more than five percent of the basic amount the State receives annually.

The quarterly report is created by the State and submitted to the FMCSA using inspection data and other information. The collection of uniform data permits analysis and comparison of State programs and facilitates program administration and reporting; e.g., comparison of the data from a single State to the national average, equipment violation and out-of-service trends, etc.

The FMCSA routinely uses quarterly report information to measure individual and collective State program accomplishment and to assist with future program development.

Description of MCSAP forms:

a. Form MCSAP-1, Motor Carrier Safety Assistance Program: The MCSAP-1 form is submitted with the CVSP grant application. It specifies the name of the applicant agency, the amount applied for, and contains the signatures of the responsible State authorities.

b. Form MCSAP-2, Grant Agreement: The MCSAP-2 form is the grant agreement that specifies the total amount of the State Program, the State and Federal participating shares, the period of the grant, and the signatures of the responsible State official and the FMCSA Division Administrator. The reverse side of the MCSAP-2 contains the “General Provisions for the Agreement.”

c. Form MCSAP-2A, Grant Amendment for Fiscal Year_: The MCSAP-2A form is used to modify the terms of the grant. It is used to increase or decrease the amount of the grant, or to extend the period of the grant. It contains the signatures of the responsible State official and the FMCSA Division Administrator.

In addition, the following documents are provided as part of the CVSP package:

a. State Training Plan (optional format): This document is a request for commercial vehicle training courses. It is used by the FMCSA's National Training Center to more effectively schedule training courses to meet the needs of State enforcement agencies.

b. State Certification: The CVSP must contain a State Certification signed by the Governor, the State Attorney General, or other specially designated State official. The Certification contains requirements of conditions that must be met by the State to receive MCSAP grant funds.

Virtually all (99%) of the information required by the MCSAP grant program is submitted electronically. This includes over three million inspection reports, which are uploaded electronically from laptop computers at inspection sites in the field to the FMCSA annually. The near-universal use of laptops for submitting these inspection reports has resulted in a dramatic cut of the time burden. The annual CVSPs require signed certifications by State personnel and are not, therefore, electronically transmitted.

The FMCSA is the only Federal agency given authority to enforce safety regulations applicable to commercial trucks and buses in interstate commerce. The type of information to be gathered from the States through this information collection is unique to the MCSAP. No duplication was identified through the rulemaking process to implement relevant sections of SAFETEA-LU.

The legislative requirement is that grants be extended to the States predicated on annual submission of CVSPs. The FMCSA has determined that although monthly or bimonthly reports are not needed, a semiannual report would not be sufficiently frequent to allow for timely evaluation and changes in State program direction. Therefore, quarterly reports were determined to be the most appropriate, considering burden and Federal need. If the reports were submitted less frequently, the FMCSA would be unable to exercise appropriate oversight and administration of the program as envisioned by the Congress.

On September 21, 2007, FMCSA published a Federal Register notice (72 FR 54096) allowing for a 60-day comment period on the proposed revision of this ICR. One comment was received from a private citizen that did not discuss the revised burden hours and cost aspects related to this ICR.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: November 20, 2007.
Terry Shelton,
Associate Administrator for Research and Information Technology.

[FR Doc. E7-23078 Filed 11-27-07; 8:45 am]

BILLING CODE 4910-EX-P